DEPARTMENT OF DEFENSE

Department of the Army; Corps of Engineers

Intent To Prepare a Draft Environmental Impact Statement for Improvements to the U.S. 17 and Market Street (U.S. 17 Business) Corridor in Northern New Hanover and Southern Pender Counties, NC

AGENCY: Department of the Army, U.S. Army Corps of Engineers, DoD.

ACTION: Notice of Intent.

SUMMARY: The North Carolina Department of Transportation (NCDOT) has proposed improvements to the transportation system starting at Military Cutoff Road in New Hanover County and extending to a point north of Hampstead along U.S. 17, in Pender County, NC (TIP Projects U-4751 and R-3300). The NCDOT is currently considering alternatives for this project that will require authorization from the U.S. Army Corps of Engineers (USACE) pursuant to Section 404 of the Clean Water Act and/or Section 10 of the Rivers and Harbor Act). The USACE,Wilmington District, Regulatory Division and the NCDOT intend to prepare a joint environmental impact statement in accordance with regulations implementing the National Environmental Policy Act (NEPA) to evaluate and compare alternatives and to assess associated impacts.

ADDRESSES: Comments regarding the proposed action and the DEIS should be provided to both Mr. Brad Shaver, Regulatory Project Manager, Wilmington Regulatory Field Office, 69 Darlington Ave., Wilmington, NC 28403 and Ms. Olivia Farr, Project Development Engineer, North Carolina Department of Transportation, 1548 Mail Service Center, Raleigh, NC 27699-1548.

FOR FURTHER INFORMATION CONTACT: Questions about the proposed action and DEIS can be directed to Mr. Brad Shaver, Regulatory Project Manager, telephone: (910) 251-4611 or Ms. Olivia Farr, Project Development Engineer, telephone: (919) 733-7844, ext. 253.

SUPPLEMENTARY INFORMATION: The NCDOT proposes to make transportation improvements to the U.S. 17 and Market Street (U.S. 17 Business) corridor in northern New Hanover and southern Pender Counties. Two North Carolina Department of Transportation Improvement Program (TIPs U-4751 and R-3300) projects are being evaluated as part of the U.S. 17 Corridor Study.

The purpose of the U.S. 17 Corridor Study project is to improve the traffic carrying capacity and safety of the U.S. 17 and Market Street corridor in the project area. The project study area is roughly bounded on the west by I-40, on the north by the Northeast Cape Fear River, Holly Shelter Game Lands to the east, and Market Street and U.S. 17 to the south.

This project is being reviewed through the Merger 01 process designed to streamline the project development and permitting processes, agreed to by the USACE, North Carolina Department of Environment and Natural Resources (Division of Water Quality, Division of Coastal Management), Federal Highway Administration (for this project not applicable), and the North Carolina Department of Transportation and supported by other stakeholder agencies and local units of government. The other partnering agencies include: U.S. Environmental Protection Agency; U.S. Fish and Wildlife Service; N.C. Wildlife Resources Commission; N.C. Department of Cultural Resources; and the Wilmington Metropolitan Planning Organization. The Merger process provides a forum for appropriate agency representatives to discuss and reach consensus on ways to facilitate meeting the regulatory requirements of Section 404 of the Clean Water Act during the NEPA/State Environmental Policy Act (SEPA) scoping phase of transportation projects.

In 2006 the project was presented to Federal and State Resource and Regulatory Agencies to gain concurrence on the purpose and need for the project. The aforementioned purpose and need of the project was agreed upon by participating agencies in September of 2006. In January 2007, the project was again presented to participating agencies regarding the preliminary corridor screening process in an attempt to decide which alternatives would be carried forward for detailed analysis. In August of 2007, the alternatives to carry forward were decided. Since this time the Corps has been working closely with NCDOT and its representatives to identify jurisdictional resources within the alternatives carried forward. This effort should be completed sometime in Spring of 2010.

Citizen informational workshops were held for the U.S. 17 Corridor Study on April 23, 2007 in Hampstead and on April 24, 2007 in Wilmington. A total of 174 participants signed in at the workshops with 40 comment sheets during April 23 and 47 comments during April 24, 2007. Thirty-four citizens noted their support for the proposed Hampstead Bypass while six citizens voiced their opposition to the project.

NEPA/SEPA Preparation: Because the proposed project requires approvals from Federal and State agencies, a joint Federal and State EIS will be prepared. The U.S. Army Corps of Engineers will serve as the lead Federal agency for the process and the NCDOT will serve as the lead State agency. The EIS will serve to satisfy the Corps' NEPA requirements as well as the State of North Carolina's SEPA requirements. Upon completion and review of the Final EIS, the Corps will independently complete a Record of Decision (ROD) for the project.

The Wilmington District will periodically issue Public Notices soliciting public and agency comment on the proposed action and alternatives to the proposed action as they are developed.

Jefferson M. Ryscavage,
Colonel, U.S. Army, District Commander.

[FR Doc. 2010-10101 Filed 4-29-10; 8:45 am]

BILLING CODE 3720-58-P